FEDERAL COMMUNICATIONS COMMISSION

[Report Nos. AUC-02-31-F and AUC-02-44-D; FCC 02-158]

Auction of Licenses in the 747-762 and 777-792 MHz Bands (Auction No. 31) Postponed Until January 14, 2003; Auction of Licenses in the 698-746 MHz Band (Auction No. 44) Will Proceed as Scheduled

AGENCY: Federal Communications Commission.

ACTION: Notice.

SUMMARY: This document announces the postponement until January 14, 2003, of the auction of licenses in the 747-762 and 777-792 MHz band (Auction No. 31), previously scheduled to begin on June 19, 2002. The postponement is necessary to provide additional time for Congress to consider legislation affecting the timing of that auction and, accordingly, bidder preparation and planning.

DATES: Auction No. 31 is scheduled to begin on January 14, 2003.

FOR FURTHER INFORMATION CONTACT: Lisa Stover, Auctions and Industry Analysis Division, Wireless Telecommunications Bureau, at (717) 338-2888; or Howard Davenport, Legal Branch, Auctions and Industry Analysis Division, Wireless Telecommunications Bureau, at (202) 418-0660.

SUPPLEMENTARY INFORMATION: This is a summary of the Auction No. 31 Postponement Public Notice released on May 24, 2002. The full text of this document, including statements by each Commissioner, is available for public inspection and copying during regular business hours at the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

The upcoming auction of licenses in the 747-762 and 777-792 MHz band (Auction No. 31), scheduled to begin on June 19, 2002, is postponed until January 14, 2003, in order to provide additional time for Congress to consider legislation affecting the timing of that auction and, accordingly, bidder preparation and planning. Pursuant to the previously announced schedules, the Commission computer system window to file short-form applications (FCC Form 175) to participate in Auction No. 31 closed at 6 p.m. ET on Wednesday, May 8, 2002. Any short-form applications to participate in Auction No. 31 that are in the system will be deemed ineffective and purged from the system seven (7) days after the release of the Auction No. 31 Postponement Public Notice. Any party will be able to submit a short-form application to participate in Auction No. 31 pursuant to the new schedule. Applicants wishing to participate pursuant to the new schedule must file in compliance with the deadlines listed. The new filing window for short-form applications to participate in Auction No. 31 will open on November 14, 2002.

The new schedule is as follows:

Filing Deadline for FCC Form 175: November 25, 2002; 6 p.m. ET.

Upfront Payment Deadline: December 13, 2002; 6 p.m. ET.

Mock Auction: January 9, 2002.

Auction Start Date: January 14, 2003.

The upcoming auction of licenses in the 698-746 MHz Band (Auction No. 44), scheduled to commence on June 19, 2002, will proceed as scheduled.

The Commission will memorialize its views supporting this decision in a separate opinion.

Action by the Commission on May 24, 2002, with Chairman Powell; Commissioners Abernathy and Copps issuing separate statements and Commissioner Martin approving in part, dissenting in part and issuing a statement.

Federal Communications Commission.
Marlene H. Dortch,
Secretary.

[FR Doc. 02-15952 Filed 6-24-02; 8:45 am]

BILLING CODE 6712-01-P